FEDERAL RESERVE SYSTEM

Change in Bank Control Notices; Acquisition of Shares of Bank or Bank Holding Companies

The notificants listed below have applied under the Change in Bank Control Act (12 U.S.C. 1817(j)) and § 225.41 of the Board’s Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the office of the Board of Governors. Interested persons may express their views in writing to the Reserve Bank indicated for that notice or to the offices of the Board of Governors. Comments must be received not later than February 28, 2007.

A. Federal Reserve Bank of Kansas City (Donna J. Ward, Assistant Vice President) 925 Grand Avenue, Kansas City, Missouri 64198-0001:

1. David and Joyce Sullivan, Elgin, Nebraska, individually; and by Billy and Karen Novak, Alan and Kim Grossnicklaus, Elgin, Nebraska; Terry and Rhonda Novak, Randy Novak, Neligh, Nebraska; and Richard and Sandy Seckman, Schuyler, Nebraska; as a group acting in concert to acquire voting shares of Antelope Bancshares, Inc., and thereby indirectly acquire voting shares of Bank of Elgin, both in Elgin, Nebraska.

B. Federal Reserve Bank of Dallas (W. Arthur Tribble, Vice President) 2200 North Pearl Street, Dallas, Texas 75201-2272:

1. Clarence E. Leatherwood, III, Dublin, Texas; to acquire voting shares of Dublin Bancshares, Inc., Dublin Texas, and there indirectly acquire voting shares of First National Bank of Dublin, Dublin, Texas.

C. Federal Reserve Bank of San Francisco (Tracy Basinger, Director, Regional and Community Bank Group) 101 Market Street, San Francisco, California 94105-1579:

1. R. Scott Priest, Layton, Utah; to retain voting shares of Centennial Bankshares, Inc., and thereby indirectly retain voting shares of Centennial Bank, both of Ogden, Utah.

Board of Governors of the Federal Reserve System, February 8, 2007.
Jennifer J. Johnson,
Secretary of the Board.

[FR Doc. E7-2441 Filed 2-12-07; 8:45 am]

BILLING CODE 6210-01-S